DEPARTMENT OF AGRICULTURE

Forest Service

Northeast Yaak EIS; Kootenai National Forest, Lincoln County, Montana

AGENCY: Forest Service, USDA.

ACTION: Notice of intent to prepare an environmental impact statement.

SUMMARY: The Forest Service will prepare an Environmental Impact Statement (EIS) to disclose the environmental effects of urban interface fuels treatments, vegetation management, watershed rehabilitation activities, wildlife habitat improvement, and access management changes, including road decommissioning. The project is located in the Northeast Yaak planning subunit on the Three Rivers Ranger District, Kootenai National Forest, Lincoln County, Montana, and northeast of Troy, Montana.

DATES: Scoping Comment Date: Comments concerning the scope of the analysis should be received by November 30, 2004.

ADDRESSES: Written comments and suggestions concerning the scope of the analysis should be sent to Michael L. Balboni, District Ranger, Three Rivers Ranger District, 1437 Hwy 2, Troy, MT 59935.

FOR FURTHER INFORMATION CONTACT: Eric Dickinson, Team Leader, Three Rivers Ranger District, 1437 Hwy 2, Troy, MT 59935. Phone: (406) 295-4693.

SUPPLEMENTARY INFORMATION: The project area is approximately 26 air miles northeast of Troy, Montana, within all or portions of T37N, R29W-R32W, and T36N, R30N-R31W, Lincoln County, Montana. The area encompasses the following drainages: Blacktail, Caribou, East Fork Yaak River, Porcupine, Basin, Solo Joe, Windy, Bunker Hill, and Vinal drainages and several small drainages tributary to the East Fork of the Yaak River.

The purpose and need for this project is to: (1) Reduce fuels and the potential for crown fires in the urban interface and other forested areas; (2) manage for more diverse and sustainable vegetative conditions; (3) improve conditions in old growth habitat; (4) improve growing conditions and long-term management of overstocked sapling/pole stands; (5) improve and maintain winter range conditions; (6) improve the quality of grizzly bear habitat; (7) provide for motorized access to national forest resources for recreation and to meet management objectives, while maintaining wildlife security; (8) continue to decrease cumulative sediment introduction to streams from roads; and (9) contribute forest products to the economy.

To meet this purpose and need this project proposes:

(1) Intermediate tree harvest on approximately 2,010 acres and regeneration harvest on 340 acres to reduce fuels and manage for a more diverse and sustainable vegetative conditions. Included in the intermediate tree harvest is an estimated 140 acres in stands designated as old growth (MA-13) Old growth characteristics would be maintained and enhanced with this treatment. This proposal includes a project-specific forest plan amendment to allow for this harvest in MA-13. Mechanical fuels reduction is proposed on 110 acres, and hand piling fuels reduction is proposed on 100 acres, all in the wildland urban interface. Maintenance underburning is proposed on approximately 120 acres in the wildland urban interface, including 80 acres within old growth or replacement old growth. This harvest would contribute approximately 12 to 16 million board feet (MMBF) or 29,300 to 39,000 hundred cubic feet (CCF) of timber products to the economy. Approximately 0.6 miles of new specified road construction and 0.7 miles of road realignment would be needed for this project and to provide for long-term management needs. The road would be placed in storage after treatment. It is estimated that five temporary roads ranging from 0.2 to 0.5 miles would be constructed to accomplish this harvest and would be obliterated following activities. Best Management Practice work and road maintenance work would be implemented on haul roads. Pre-commercial thinning is proposed on approximately 270 acres to improve growing conditions and maintain structural diversity in managed sapling stands.

(2) Decommissioning all or portions of 13 roads (approximately 17 miles) which were determined through an interdisciplinary process to be unneeded and are at risk of contributing sediment to streams. the decommissioning work would include outsloping portions of the road prism, installing ditch-intercept waterbars, and reestablishing stream crossings. Several roads in the upper Caribou and Bloom Creek area used in the 1950s are inaccessible and would be abandoned. To improve motorized public access, Road 746 would be opened for public travel.

(3) To enlarge and consolidate grizzly bear core habitat while maintaining the 55 percent standard in Bear Management Unit 16, Road 5816 (at the junction of Road 6810H), Road 6004, and Road 6005, would be bermed and stabilized. These roads are currently gated, so public access would not change. A smaller core area in the Solo Joe/Hudson Cr. area would be eliminated.

(4) Design features and mitigations to maintain and protect resource values.

Range of Alternatives

The Forest Service will consider a range of alternatives. One of these will be the “no action” alternative in which none of the proposed activities will be implemented. Additional alternatives will examine varying levels and locations for the proposed activities to achieve the proposal's purposes, as well as to respond to the issues and other resource values.

Public Involvement and Scoping

The public is encouraged to take part in the process and to visit with Forest Service officials at any time during the analysis and prior to the decision. The Forest Service will be seeking information, comments, and assistance from Federal, State, and local agencies, Tribal governments, and other individuals or organizations that may be interested in, or affected by, the proposed action. This input will be used in preparation of the draft and final EIS. The scoping process will include:

1. Identifying potential issues.

2. Identifying major issues to be analyzed in depth.

3. Identifying alternatives to the proposed action.

4. Exploring additional alternatives that will be derived from issues recognized during scoping activities.

5. Identifying potential environmental effects of this proposal (i.e., direct, indirect, and cumulative effects and connected actions).

Estimated Dates for Filing

The draft EIS is expected to be filed with the Environmental Protection Agency (EPA) and to be available for public review in February 2005. At that time EPA will publish a Notice of Availability of the draft EIS in the Federal Register. The comment period on the draft EIS will be 45 days from the date the EPA publishes the Notice of Availability in the Federal Register. It is very important that those interested in the management of this area participate at that time.

The final EIS is scheduled to be completed in June 2005. In the final EIS, the Forest Service is required to respond to comments and responses received during the comment period that pertain to the environmental consequences discussed in the draft EIS and to applicable laws, regulations, and policies considered in making a decision regarding the proposal.

Reviewer's Obligations

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider and respond to them in the final EIS.

To be most helpful, comments on the draft EIS should be as specific as possible and may address the adequacy of the statement or the merit of the alternatives discussed. Reviewers may wish to refer to the Council on Environmental Quality regulations for implementing the procedural provisions of the National Environmental Policy Act at 40 CFR 1503.3 in addressing these points.

Responsible Official

As the Forest Supervisor of the Kootenai National Forest, 1101 U.S. Highway 2 West, Libby, MT 59923, I am the Responsible Official. As the Responsible Official, I will decide if the proposed project will be implemented. I will document the decision and reasons for the decision in the Record of Decision. I have delegated the responsibility for preparing the DEIS and FEIS to Michael L. Balboni, District Ranger, Three Rivers Ranger District.

Dated: October 25, 2004.
Bob Castaneda,
Forest Supervisor, Kootenai National Forest.

[FR Doc. 04-24211 Filed 10-28-04; 8:45 am]

BILLING CODE 3410-11-M